DEPARTMENT OF THE INTERIOR

National Park Service

National Register of Historic Places; Notification of Pending Nominations and Related Actions

Nominations for the following properties being considered for listing or related actions in the National Register were received by the National Park Service before September 29, 2009

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 26, 2009.

J. Paul Loether,
Chief, National Register of Historic Places/National Historic Landmarks Program.

ARKANSAS

Clay County

Piggott Commercial Historic District (Post Offices with Section Art in Arkansas MPS), Roughly bounded on the N. by W. Cherry on the South by W. Court, on the E. by S. Throgmorton and the W. by Clay, Piggott, 09000867

Faulkner County

Oak Grove Cemetery Historic Section, E. Bruce St. approx. 3 mi. E. of Harkrider St., Conway, 09000868

COLORADO

Las Animas County

McCormick House, 1919 Pinon St., Trinidad, 09000869

CONNECTICUT

Middlesex County

Xi Chapter, Psi Upsilon Fraternity,

242 High St., Middletown, 09000870

ILLINOIS

Ogle County

Indian Statue, Lowden Memorial State Park, 1411 N. River Rd., Oregon, 09000871

Piatt County

Monticello Courthouse Square Historic District, Roughly bounded by Market/Rte. 105; the railroad tracks; N. Hamilton and N. Independence Sts.; and Marion St., Monticello, 09000872

KANSAS

Dickinson County

Garfield Elementary School (Public Schools of Kansas MPS), 300 NW 7th St., Abilene, 09000874

Ford County

Dodge City Downtown Historic District, Roughly bounded by Front St. on the S., 3rd Ave. on the W., Vine St. on the N., and Central Ave. on the E., Dodge City, 09000875

Gray County

Gray County Courthouse (Old), 117 S. Main, Cimarron, 09000873

Reno County

Norris, G.W., House, 301 E. 12th Ave., Hutchinson, 09000876

Sedgwick County

Penley House (Residential Resources of Wichita, Sedgwick County, Kansas 1870-1957), 3400 Penley Dr., Wichita, 09000877

MAINE

Cumberland County

BAGHEERA (schooner), Maine State Pier, Commercial St., Portland, 09000878

York County

Arundel Golf Club, 19 River Rd., Kennebunkport, 09000879

Sanford Mills Historic District, Bounded by Washington St., Pioneer Ave., Emery St., and Weaver Dr., Sanford, 09000880

MASSACHUSETTS

Hampden County

Calhoun, Apartments, The, 1391-1399 Dwight St. & 85 Jefferson Ave., Springfield, 09000881

Verona, Apartments, The, 1245-1255 Dwight St. & 6-10 Allendale St., Springfield, 09000882

MISSISSIPPI

Carroll County

Vaiden High School, 504 Mulberry St., Vaiden, 09000883

Clarke County

McNair, Doctor, House, 116 E. Church St., Quitman, 09000895

Hinds County

Wiener House at 228 Ridge Drive, 228 Ridge Dr., Jackson, 09000884

Lincoln County

Alexander Teen Center, 456 Rogers St., Brookhaven, 09000885

Warren County

Glenwood-Vicklan Historic District (Vicksburg MPS) Including Vicklan St., Glenwood Cir., Edna Dr., and Chambers St. (E. of the Bayou), Vicksburg, 09000886

MISSOURI

Buchanan County

Central Police Station, 701 Messanie, St. Joseph, 09000887

St. Louis County

Meramec River U.S. Bridge—J421 (Route 66 in Missouri MPS), Historic U.S. Rt. 66 spanning the Meramec River, Eureka, 09000888

St. Louis Independent City

National Candy Company Factory, 4230 Gravois Ave., St. Louis, 09000889

Our Lady of Perpetual Help Parish Hall, School, Convent, and Rectory, 5217 N. 21st. (Parish Hall), 2017 Linton Ave., (School & Convent), and 2011 Linton Ave. (Rectory), St. Louis, 09000890

OREGON

Lake County

Shirk, David L., Ranch, Guano Valley, Sec. 35, Township 38 S., Range 27 E., Willamette Meridian, Adel, 09000891

VERMONT

Rutland County

Bridge 4, (Metal Truss, Masonry, and Concrete Bridges in Vermont MPS), Vermont Rt. 31, Poultney, 09000892

Windham County

Williams Street Extension Historic District, 51-58, 61-68, 70 Williams St., Rockingham, 09000893

WISCONSIN

Ozaukee County

Port Washington Fire Engine House, 102 E. Pier St., Port Washington, 09000894

Request for REMOVAL has been made for the following resources:

ILLINOIS

Vanderburgh County

Skora Building (Downtown Evansville, MRA) 101-103 NW 2nd St., Evansville, 82001855

[FR Doc. E9-24427 Filed 10-8-09; 8:45 am]

BILLING CODE P